DEPARTMENT OF EDUCATION

Jacob K. Javits Gifted and Talented Education Program: National Research and Development Center

AGENCY: Office of Educational Research and Improvement, Department of Education.

ACTION: Notice of proposed priority.

SUMMARY: The Assistant Secretary for the Office of Educational Research and Improvement (OERI) proposes a priority under the Jacob K. Javits Gifted and Talented Education Program—National Research and Development Center (Center). The Assistant Secretary will use this priority for the Center competition in fiscal year (FY) 2000. This priority is intended to focus on research to obtain a better understanding of the under-representation of students from some minority groups among top performers, and on using national data sets to better understand the educational opportunities available to top performing students.

DATES: We must receive your comments on or before April 26, 2000.

ADDRESSES: Address all comments about this proposed priority to Beverly Coleman, U.S. Department of Education, 555 New Jersey Avenue, NW., room 611A, Washington, DC 20208-5521. If you prefer to send your comments through the Internet, use the following address: beverly_coleman@ed.gov

FOR FURTHER INFORMATION CONTACT: Beth Fine, U.S. Department of Education, 555 New Jersey Avenue, NW., room 613, Washington, DC 20202-5521. Telephone: (202) 219-1323. If you use a telecommunications device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION:

Invitation to Comment

We invite you to submit comments regarding this proposed priority.

During and after the comment period, you may inspect all public comments about this proposed priority in room 611a, 555 New Jersey Avenue, NW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, you may call (202) 205-8113 or (202) 260-9895. If you use a TDD, you may call the Federal Information Relay Service at 1-800-877-8339.

General Information

OERI administers the Jacob K. Javits Gifted and Talented Students Education Act of 1994 (Javits Act) under Title X, Part B of Public Law 103-382 (20 U.S.C. 8031 et seq.). The purposes of the Javits Act are (1) To support a coordinated program of research, demonstration projects, personnel training, and similar activities designed to build a nationwide capability in elementary and secondary schools to meet the special educational needs of gifted and talented students; (2) to encourage rich and challenging curricula for all students through the appropriate application and adaptation of materials and instructional methods used with gifted and talented students; and (3) to supplement and make more effective the expenditure of State and local funds devoted to gifted and talented students.

The Secretary is authorized, under the Javits Act, to create a national research center to carry out: (1) Research on methods and techniques for identifying and teaching gifted and talented students, and for using gifted and talented education programs and methods to serve all students; and (2) program evaluations, surveys, and the collection, analysis, and development of information needed to accomplish the purposes of the Act.

The Javits Act gives the highest priority to: (1) The identification and services for gifted and talented students who may not be identified and served through traditional assessment methods (including economically disadvantaged, individuals of limited-English proficiency, and individuals with disabilities); and (2) programs and projects designed to develop or improve the capability of schools in an entire State or region of the Nation through the cooperative efforts of State and local educational agencies, institutions of higher education, and other public and private agencies.

The Secretary believes that there are certain areas of research in gifted and talented education that are especially significant and in the national interest. He believes that focusing on these areas will substantially increase our knowledge and improve our ability to serve gifted and talented students well. Therefore, the Secretary proposes one priority for the Center competition.

First, the Secretary believes that it is in the national interest to have a better understanding of the reasons for the under-representation of some minority groups among top performing students. National surveys reveal that only about ten percent of the students performing at the highest levels are African-Americans, Latinos, or Native Americans, even though they make up about one-third of the population. There has been very little sustained and coordinated research to investigate the reasons for the under-representation of minorities at the highest levels of achievement or to develop and evaluate methods for increasing the number of minority students performing at the highest levels.

Second, there is a substantial body of information on gifted and talented students and their educational programs contained in national and international studies, such as those conducted by the National Center for Education Statistics (NCES), that could and should be used to inform our understanding of the opportunities available for top-performing students. There are robust data sets in a number of national and international studies that address issues related to the education of high achieving and high ability students. These studies have not been analyzed, to any significant degree, in order to gain a national and international portrait of these students and the educational opportunities available to them. These studies include, but are not limited to, the Early Childhood Longitudinal Study, the National Educational Longitudinal Study (NELS 88), the National Assessment of Educational Progress (NAEP), and the Third International Mathematics and Science Study (TIMSS). For example, data from the Early Childhood Longitudinal Study could provide findings about the early childhood experiences of high achieving minority and nonminority children, both at home and in school. Data from the National Educational Longitudinal Study (NELS) could help address a number of questions related to the opportunities and achievement of middle and high school students, such as: what can we learn about the educational experiences of minority students identified as high achieving in eighth grade? What coursework did they take, and did this lead to differences in achievement? Did they go on to higher education? How is this the same or different from nonminority students? The Secretary believes that analyzing these studies will lead to a better understanding of how top performing students are identified and served throughout the nation and the world.

We will announce the final priority in a notice in the Federal Register. We will determine the final priority after considering responses to this notice and other information available to the Department. This notice does not preclude us from proposing or funding additional priorities, subject to meeting applicable rulemaking requirements.

Note: This notice does not solicit applications. A notice inviting applications under this competition will be published in the Federal Register concurrent with or following publication of the notice of final priority.

Priority

Under 34 CFR 75.105(c)(3) the Secretary proposes to give an absolute preference to applications that meet the following priority. The Secretary proposes to fund under this competition only one application that meets this absolute priority.

Proposed Priority—Research on Gifted and Talented Students

The Secretary will only fund a Center application that proposes to carry out the following activities—

(a) Conducts a coherent and sustained program of research that:

(1) Investigates the causes for disparities in achievement at the highest levels of performance among various racial and ethnic groups;

(2) Studies models for increasing the proportion of under represented students performing at the highest levels; and

(3) Generates findings and applications that build the capacity of teachers and schools to improve the performance of under-represented students.

(b) Informs the research carried out under paragraph (a) by conducting analyses of existing national and international databases to determine what is known about the opportunities available to, and educational outcomes of gifted and talented, high achieving or high ability students from these studies. Special attention would be given to studies that provide analyses that:

(1) Lead to a better understanding of what contributes to the educational achievement of these students, disaggregated by socio-economic status and race;

(2) Frame questions not yet being asked that will guide future discussion and inquiry;

(3) Propose new approaches to enduring problems; and

(4) Influence discussion of subsequent research, practice, and policy activities.

(c) Reserves five percent of each budget period's funds to support activities that fall within the Center's priority area, are designed and mutually agreed to by the Center and OERI, and enhance OERI's ability to carry out its mission. These activities may include developing research agenda, conducting research projects collaborating with other federally-supported entities, and engaging in research agenda setting and dissemination activities,

(d) Prepares, at the end of the award period, a report that synthesizes the findings and advances in knowledge that resulted from the Center's program of work and that describes the potential impact on the improvement of American education, including any observable impact to date.

Executive Order 12372

This program is not subject to Executive Order 12372 and the regulations in 34 CFR Part 79.

Applicable Program Regulations: 34 CFR Part 700.

Program Authority: 20 U.S.C. 8034(c).

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-294-6498; or in the Washington, D.C., area at (202) 512-1530.

Note: The official version of this document is the document published in the Federal Register. Free Internet access to the official edition of the Federal Register and the Code of Federal Regulations is available on GPO Access at: http://www.access.gpo.gov/nara/index.html.

(Catalog of Federal Domestic Assistance Number: 84.206R Jacob K. Javits National Research and Development Center for Gifted and Talented Education Program)

Dated: March 21, 2000.
C. Kent McGuire,
Assistant Secretary for Educational Research and Improvement.

[FR Doc. 00-7363 Filed 3-24-00; 8:45 am]

BILLING CODE 4001-01-U